DEPARTMENT OF ENERGY

Federal Energy Regulatory Commission

[Project No. 77-163]

Pacific Gas and Electric Company; Notice of Availability of Environment Assessment

April 18, 2007.

In accordance with the National Environmental Policy Act of 1969 and the Federal Energy Regulatory Commission's regulations, the Office of Energy Projects has reviewed various proposals regarding restoration of water used for frost protection to Lake Pillsbury, part of the Potter Valley Project. The Potter Valley Project is located on the Eel River and East Branch Russian River (EBRR), in northern California. An environmental assessment (EA) has been prepared.

In the EA, the Commission's staff concludes that restoration of water to Lake Pillsbury, used by the Potter Valley Irrigation District from March 15 through April 14, 2007 for frost protection, would not constitute a major federal action significantly affecting the quality of the human environment.

A copy of the EA is attached to a Commission order titled “Order on Restoration of Water to Lake Pillsbury,” issued April 18, 2007, and is available at the Commission's Public Reference Room. A copy of the EA may also be viewed on the Commission's Web site at http://www.ferc.gov using the “elibrary” link. Enter the docket number (P-77) in the docket field to access the document. For assistance, call (202) 502-8222 or (202) 502-8659 (for TTY).

Kimberly D. Bose,
Secretary.

[FR Doc. E7-7804 Filed 4-24-07; 8:45 am]

BILLING CODE 6717-01-P